COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds product(s) and service(s) to the Procurement List that will be furnished by nonprofit agencies employing persons who are blind or have other severe disabilities, and deletes product(s) and service(s) from the Procurement List previously furnished by such agencies.

DATES: Date added to and deleted from the Procurement List: July 06, 2025.

ADDRESSES: Committee for Purchase From People Who Are Blind or Severely Disabled, 355 E Street SW, Suite 325, Washington, DC 20024.

FOR FURTHER INFORMATION CONTACT: Michael R. Jurkowski, Telephone: (703) 489-1322, or email CMTEFedReg@AbilityOne.gov.

SUPPLEMENTARY INFORMATION:

Additions

On February 21, 2025, the Committee for Purchase From People Who Are Blind or Severely Disabled (operating as the U.S. AbilityOne Commission) published an initial notice of proposed additions to the Procurement List. (90 FR 10074). This final notice is published pursuant to 41 U.S.C. 8503(a)(2) and 41 CFR 51-2.3. The Committee has determined that the product(s) listed below are suitable for procurement by the Federal Government and has added these product(s) to the Procurement List as a mandatory purchase for Federal entities. In accordance with 41 CFR 51-5.2, the Committee has authorized the qualified nonprofit agencies described with the product(s) as the mandatory source(s) of supply.

On March 15, 2025, the Committee for Purchase From People Who Are Blind or Severely Disabled (operating as the U.S. AbilityOne Commission) published an initial notice of proposed additions to the Procurement List. (90 FR 12153). The Committee determined that the service(s) listed below is suitable for procurement by the Federal Government and has added this service to the Procurement List as a mandatory purchase for the contracting activity listed below. In accordance with 41 CFR 51-5.3(b), the mandatory purchase requirement is limited to the contracting activity at location listed, and in accordance with 41 CFR 51-5.2, the Committee has authorized nonprofit agency listed as the mandatory source(s) of supply.

After consideration of the material presented to it concerning capability of qualified nonprofit agencies to provide the product(s) and service(s) and impact of the additions on the current or most recent contractors, the Committee has determined that the product(s) and service(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the product(s) and service(s) to the Government.

2. The action will result in authorizing small entities to furnish the product(s) and service(s) to the Government.

3. There are no known regulatory alternatives which would accomplish the objectives of the Javits-Wagner-O'Day Act (41 U.S.C. 8501-8506) in connection with the product(s) and service(s) proposed for addition to the Procurement List.

End of Certification

Accordingly, the following product(s) and service(s) are added to the Procurement List:

Product(s)

NSN(s)—Product Name(s):

6515-00-NIB-8242—Scope, Endoscopy, Cysto, Flexible, Single-Use, Standard Deflection, BX/5

6515-00-NIB-8243—Scope, Endoscopy, Cysto, Flexible, Single-Use, Standard Deflection, CS/20

6515-00-NIB-8244—Scope, Endoscopy, Cysto, Flexible, Single-Use, Reverse Deflection, BX/5

6515-00-NIB-8245—Scope, Endoscopy, Cysto, Flexible, Single-Use, Reverse Deflection, CS/20

6515-00-NIB-8246—Scope, Nasal, Endoscopy, Laryngoscopy, 3.5mm Insertion Portion. BX/5

650020101N—Scope, Nasal, Endoscopy, Laryngoscopy, 3.5mm Insertion Portion, CS/20

650020201N—Scope, Endoscopy, Bronchoscope, Single Use, Large, BX/5

650020301N—

650021201N—

650021202N—Scope, Endoscopy, Bronchoscope, Single Use, Large, CS/20

650021203N—Scope, Endoscopy, Bronchoscope, Single Use, Regular, BX/5

650021204N—Scope, Endoscopy, Bronchoscope, Single Use, Regular, CS/20

650021205N—Scope, Endoscopy, Bronchoscope, Single Use, Slim, BX/5

650021206N—Scope, Endoscopy, Bronchoscope, Single Use, Slim, CS/20

Authorized Source of Supply: BOSMA Enterprises, Indianapolis, IN

Contracting Activity: DEFENSE LOGISTICS AGENCY, DLA TROOP SUPPORT

Mandatory for: Broad Government Requirement

Distribution: B-List

Service(s)

Service Type: Janitorial Service

Mandatory for: DLA, DLA Distribution Depot, Robins AFB, Warner Robins, GA

Authorized Source of Supply: Good Vocations, Inc., Macon, GA

Contracting Activity: DEFENSE LOGISTICS AGENCY, DLA DISTRIBUTION

Deletions

On May 2, 2025 (90 FR 18838), the Committee for Purchase From People Who Are Blind or Severely Disabled published notice of proposed deletions from the Procurement List. This notice is published pursuant to 41 U.S.C. 8503(a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s):

7930-00-NIB-0578—Disinfectant, Profect Neutral 256, Cleaner, Neutral, Concentrated, High Dilution

8125-00-NIB-0031—Spray Bottle, High Dilution 256 Neutral Disinfectant, 32 oz. Bottle

Authorized Source of Supply: VisionCorps, Lancaster, PA

Contracting Activity: STRATEGIC ACQUISITION CENTER, FREDERICKSBURG, VA

NSN(s)—Product Name(s):

PSIN 01075B—Safety Guard

PSIN 10307A—Divider, Separation, Letter, Beige

Authorized Source of Supply: Human Technologies Corporation, Utica, NY

Contracting Activity: U.S. Postal Service, Eagan, Eagan, MN

NSN(s)—Product Name(s):

PSIN 01036-F—Marker, I.D., Plastic, Pink

PSIN 01036-E—Marker, I.D., Plastic, Yellow

PSIN 01036-D—Marker, I.D., Plastic, Violet

PSIN 01036-C—Marker, I.D., Plastic, Green

PSIN 01036-B—Marker, I.D., Plastic, Orange

PSIN 01036-A—Marker, I.D., Plastic, Blue

PSIN 01036—Marker, I.D., Plastic, White

Authorized Source of Supply: Human Technologies Corporation, Utica, NY

Contracting Activity: U.S. Postal Service, Washington, DC

NSN(s)—Product Name(s): PSIN 01037B—Divider, Separation, Beige

Authorized Source of Supply: Human Technologies Corporation, Utica, NY

Contracting Activity: U.S. Postal Service, Chicago, Chicago, IL

NSN(s)—Product Name(s):

8340-00-577-4168—(Cotton duck)

8405-01-443-9633—Parka, Rain Suit for Wet Weather, Army, Woodland Camouflage, XX Large

8405-01-443-9606—Parka, Rain Suit for Wet Weather, Army, Woodland Camouflage, XX Small

8405-01-443-9498—Trousers, Rain Suit for Wet Weather, Army, Men's, Woodland Camouflage, XX Large

8405-01-443-9430—Trousers, Rain Suit for Wet Weather, Army, Men's, Woodland Camouflage, XX Small

8405-01-443-9436—Trousers, Rain Suit for Wet Weather, Army, Men's, Woodland Camouflage, X Small

8405-01-443-9449—Trousers, Rain Suit for Wet Weather, Army, Men's, Woodland Camouflage, Small

8405-01-443-9487—Trousers, Rain Suit for Wet Weather, Army, Men's, Woodland Camouflage, Medium

8405-01-443-9488—Trousers, Rain Suit for Wet Weather, Army, Men's, Woodland Camouflage, Large

8405-01-443-9493—Trousers, Rain Suit for Wet Weather, Army, Men's, Woodland Camouflage, X Large

8405-01-443-9612—Parka, Rain Suit for Wet Weather, Army, Woodland Camouflage, X Small

8405-01-443-9618—Parka, Rain Suit for Wet Weather, Army, Woodland Camouflage, Small

8405-01-443-9622—Parka, Rain Suit for Wet Weather, Army, Woodland Camouflage, Medium

8405-01-443-9626—Parka, Rain Suit for Wet Weather, Army, Woodland Camouflage, Large

8405-01-443-9630—Parka, Rain Suit for Wet Weather, Army, Woodland Camouflage, X Large

8415-01-527-1537—Trousers, Wet Weather—Rainsuit, Army, Universal Camouflage, XX Small

8415-01-527-1541—Trousers, Wet Weather—Rainsuit, Army, Universal Camouflage, X Small

8415-01-527-1545—Trousers, Wet Weather—Rainsuit, Army, Universal Camouflage, Small

8415-01-527-1551—Trousers, Wet Weather—Rainsuit, Army, Universal Camouflage, Medium

8415-01-527-1555—Trousers, Wet Weather—Rainsuit, Army, Universal Camouflage, Large

8415-01-527-1560—Trousers, Wet Weather—Rainsuit, Army, Universal Camouflage, X Large

8415-01-527-1561—Trousers, Wet Weather—Rainsuit, Army, Universal Camouflage, XX Large

8415-01-527-4610—Parka, Rain Suit for Wet Weather, Army, Universal Camouflage, XX Small

8415-01-527-4611—Parka, Rain Suit for Wet Weather, Army, Universal Camouflage, X Small

8415-01-527-4612—Parka, Rain Suit for Wet Weather, Army, Universal Camouflage, Small

8415-01-527-4614—Parka, Rain Suit for Wet Weather, Army, Universal Camouflage, Medium

8415-01-527-4616—Parka, Rain Suit for Wet Weather, Army, Universal Camouflage, Large

8415-01-527-4617—Parka, Rain Suit for Wet Weather, Army, Universal Camouflage, X Large

8415-01-527-4618—Parka, Rain Suit for Wet Weather, Army, Universal Camouflage, XX Large

Authorized Source of Supply: ORC Industries, Inc., La Crosse, WI

Contracting Activity: DLA TROOP SUPPORT, PHILADELPHIA, PA

NSN(s)—Product Name(s):

5340-00-NSH-0005—Panel, Side Flex

5340-00-NSH-0004—MSL TECH-INTEG-PDAMS

Authorized Source of Supply: Huntsville Rehabilitation Foundation, Inc., Huntsville, AL

Contracting Activity: W4T8 USASMDC HUNTSVILLE, HUNTSVILLE, AL

NSN(s)—Product Name(s): 5510-00-NSH-0041—Lath, Wood

Authorized Source of Supply: Sunrise Enterprises of Roseburg, Inc., Roseburg, OR

Contracting Activity: WILLAMETTE NATIONAL FOREST, SPRINGFIELD, OR

NSN(s)—Product Name(s):

3990-00-NSH-0070—Box, Seedling Growing

3990-00-NSH-0071—Pallet, Greenhouse

Authorized Source of Supply: Sunrise Enterprises of Roseburg, Inc., Roseburg, OR

Contracting Activity: UMPQUA NATIONAL FOREST, ROSEBURG, OR

NSN(s)—Product Name(s):

7690-00-NSH-0007—B212-S

7690-00-NSH-0008—B214-S

Authorized Source of Supply: Alliance, Inc., Baltimore, MD

Contracting Activity: Government Printing Office, Washington, DC

NSN(s)—Product Name(s):

8340-00-NSH-0004—Carrying Bag

8340-00-NSH-0006—Repair Kit

8340-00-NSH-0001—Shelter, Complete, with Repair Kit

Authorized Source of Supply: ORC Industries, Inc., La Crosse, WI

Contracting Activity: COMMANDER, QUANTICO, VA

NSN(s)—Product Name(s):

8465-01-314-4286—Carrier, Water Canteen

8465-00-753-6490—Cover, Water Canteen

Authorized Source of Supply: Human Technologies Corporation, Utica, NY

Contracting Activity: DLA TROOP SUPPORT, PHILADELPHIA, PA

NSN(s)—Product Name(s): 5340-00-NSH-0031—Strap, Webbing, 54″ x 1″

Authorized Source of Supply: The Charles Lea Center, Inc., Spartanburg, SC

Contracting Activity: DLA LAND AND MARITIME, COLUMBUS, OH

NSN(s)—Product Name(s):

8415-00-NSH-0083—Drawers, Lightweight Cold Weather, Marine Corps, Long, Brown, XL

8415-00-NSH-0082—Drawers, Lightweight Cold Weather, Marine Corps, Long, Brown, L

8415-00-NSH-0081—Drawers, Lightweight Cold Weather, Marine Corps, Long, Brown, M

8415-00-NSH-0080—Drawers, Lightweight Cold Weather, Marine Corps, Long, Brown, S

8415-00-NSH-0079—Shirt, Underwear, Lightweight Cold Weather, Marine Corps, Long Sleeved, Brown, XL

8415-00-NSH-0078—Shirt, Underwear, Lightweight Cold Weather, Marine Corps, Long Sleeved, Brown, L

8415-00-NSH-0077—Shirt, Underwear, Lightweight Cold Weather, Marine Corps, Long Sleeved, Brown, M

8415-00-NSH-0076—Shirt, Underwear, Lightweight Cold Weather, Marine Corps, Long Sleeved, Brown, S

8415-01-394-3960—Shirt, Underwear, Cold Weather Turtle Neck Undershirt, Army, Unisex, Long Slvd, Olive Drab, Small

8415-01-394-3962—Shirt, Underwear, Cold Weather Turtle Neck Undershirt, Army, Unisex, Long Slvd, Olive Drab, Medium

8415-01-394-3963—Shirt, Underwear, Cold Weather Turtle Neck Undershirt, Army, Unisex, Long Slvd, Olive Drab, Large

8415-01-394-3967—Shirt, Underwear, Cold Weather Turtle Neck Undershirt, Army, Unisex, Long Slvd, Olive Drab, X Large

8415-01-394-4098—Drawers, Cold Weather Drawers, Army, Unisex, Long, Olive Drab, Small

8415-01-394-5411—Drawers, Cold Weather Drawers, Army, Unisex, Long, Olive Drab, Medium

8415-01-394-5412—Drawers, Cold Weather Drawers, Army, Unisex, Long, Olive Drab, Large

8415-01-394-5415—Drawers, Cold Weather Drawers, Army, Unisex, Long, Olive Drab, X Large

Authorized Source of Supply: Peckham Vocational Industries, Inc., Lansing, MI

Contracting Activity: DLA TROOP SUPPORT, PHILADELPHIA, PA

NSN(s)—Product Name(s): 4510-01-631-8255—Dispenser, Stainless Steel, Feminine Hygiene Disposal Bags

Authorized Source of Supply: Envision, Inc., Wichita, KS

Contracting Activity: DLA TROOP SUPPORT, PHILADELPHIA, PA

NSN(s)—Product Name(s): 8465-01-420-4920—Liner, Foam Impact

Authorized Source of Supply: Georgia Industries for the Blind, Bainbridge, GA

Contracting Activity: DLA TROOP SUPPORT, PHILADELPHIA, PA

NSN(s)—Product Name(s): 1005-00-NIB-0016—Guard, Gun Barrel, Black, One Size Fits All

Authorized Source of Supply: The Lighthouse for the Blind in New Orleans, Inc., New Orleans, LA

Contracting Activity: DLA LAND AND MARITIME, COLUMBUS, OH

NSN(s)—Product Name(s): 5820-00-930-3435—Clamp Fastener

Authorized Source of Supply: Sunshine Services, Knoxville, TN

Contracting Activity: DLA AVIATION, RICHMOND, VA

NSN(s)—Product Name(s):

6515-00-690-6911—Kit, Suture Removal, Sterile, Disposable

7930-00-NIB-0581—TriBase Cleaner, Multi-Purpose, Concentrate, 2 Liter

7930-00-NIB-0582—BioRenewables Cleaner, Glass, Concentrate, 2 Liter

Authorized Source of Supply: Washington-Greene County Branch, PAB, Washington, PA

Contracting Activity: STRATEGIC ACQUISITION CENTER, FREDERICKSBURG, VA

NSN(s)—Product Name(s):

6532-01-098-8344—Robe, Dressing, Size Medium

6532-01-098-8345—Robe, Dressing, Size Large Long

Authorized Source of Supply: TradeWinds Services, Inc., Merrillville, IN

Contracting Activity: DLA TROOP SUPPORT, PHILADELPHIA, PA

NSN(s)—Product Name(s): 4240-00-690-8765—Harness, Head, Gas Mask

Authorized Source of Supply: Human Technologies Corporation, Utica, NY

Contracting Activity: W4GG HQ US ARMY TACOM, ROCK ISLAND, IL

NSN(s)—Product Name(s):

1420-01-049-5358—Cover, Protective, Nylon

Authorized Source of Supply: Huntsville Rehabilitation Foundation, Inc., Huntsville, AL

Contracting Activity: DLA AVIATION, RICHMOND, VA

NSN(s)—Product Name(s):

6920-01-089-4401—Enclosure, Ballistic Protective

1260-01-244-2833—Pouch Cover

Authorized Source of Supply: Huntsville Rehabilitation Foundation, Inc., Huntsville, AL

Contracting Activity: W4T8 USASMDC HUNTSVILLE, HUNTSVILLE, AL

NSN(s)—Product Name(s):

7930-00-NIB-0759—Detergent, General Purpose, Cleaner/Degreaser, Biodegradable, Ready-to-Use, Spray Bottle, 22 oz

7930-00-NIB-0760—Detergent, General Purpose, Cleaner/Degreaser, Biodegradable, Ready-to-Use, Spray Bottle, 16 oz

Authorized Source of Supply: Lighthouse for the Blind of Houston, Houston, TX

Contracting Activity: GSA/FSS GREATER SOUTHWEST ACQUISITI, FORT WORTH, TX

Service(s)

Service Type: Shelf Stocking & Custodial

Mandatory for: Fort Hood: Fort Hood Commissary II, Warrior Way, Fort Hood, TX

Authorized Source of Supply: Mavagi Enterprises, Inc., San Antonio, TX

Contracting Activity: DEFENSE COMMISSARY AGENCY (DECA),

Service Type: Shelf Stocking, Custodial & Warehousing

Mandatory for: Port Hueneme Naval Construction Battalion Center, Port Hueneme, CA

Authorized Source of Supply: Goodwill Industries of Southern California, Panarama City, CA

Contracting Activity: DEFENSE COMMISSARY AGENCY (DECA),

Service Type: Shelf Stocking, Custodial & Warehousing

Mandatory for: McChord Air Force Base, McChord AFB, WA

Authorized Source of Supply: AtWork!, Bellevue, WA

Contracting Activity: DEFENSE COMMISSARY AGENCY (DECA),

Service Type: Shelf Stocking & Custodial

Mandatory for: Defense Commissary Agency, Moffett Federal Airfield Commissary, Moffett Field, CA

Authorized Source of Supply: PRIDE Industries, Roseville, CA

Contracting Activity: DEFENSE COMMISSARY AGENCY (DECA),

Service Type: Warehousing

Mandatory for: Fort Hood II Commissary, Warrior Way Building 85020, Fort Hood, TX

Authorized Source of Supply: CW Resources, Inc., New Britain, CT

Contracting Activity: DEFENSE COMMISSARY AGENCY (DECA),

Service Type: Shelf Stocking, Custodial & Warehousing

Mandatory for: Defense Commissary Agency, Bremerton NBK Commissary, Bremerton, WA

Authorized Source of Supply: Peninsula Services, Bremerton, WA

Contracting Activity: DEFENSE COMMISSARY AGENCY (DECA),

Service Type: Warehousing

Mandatory for: Redstone Arsenal, Huntsville, AL

Contracting Activity: DEFENSE COMMISSARY AGENCY (DECA),

Service Type: Shelf Stocking, Custodial & Warehousing

Mandatory for: Tyndall Air Force Base

Contracting Activity: DEFENSE COMMISSARY AGENCY (DECA),

Service Type: Document Destruction

Mandatory for: Social Security Administration, Regional Office, Dallas, TX

Contracting Activity: SOCIAL SECURITY ADMINISTRATION, SSA OFC OF ACQUISITION GRANTS

Service Type: Contact Center Services

Mandatory for: Office of the Comptroller of the Currency, 400 7th Street SW #3e, Washington, DC

Authorized Source of Supply: Peckham Vocational Industries, Inc., Lansing, MI

Contracting Activity: OFFICE OF THE COMPTROLLER OF THE CURRENCY, DEPT OF TREAS/COMPTROLLER OF THE CURRENCY

Service Type: Grounds Maintenance

Mandatory for: US Army Reserve, Huntsville AFRC, Huntsville, TX

Authorized Source of Supply: Rising Star Resource Development Corporation, Dallas, TX

Contracting Activity: DEPT OF THE ARMY, W076 ENDIST LITTLE ROCK

Service Type: Records Management

Mandatory for: US Navy, Military Sealift Command, Naval Station Norfolk, Norfolk, VA

Authorized Source of Supply: VersAbility Resources, Inc., Hampton, VA

Contracting Activity: DEPT OF THE NAVY, MSC NORFOLK

Michael R. Jurkowski,
Director, Business Operations.

[FR Doc. 2025-10341 Filed 6-5-25; 8:45 am]

BILLING CODE 6353-01-P